DEPARTMENT OF LABOR

Veterans' Employment and Training Service

20 CFR Part 1002

[Docket No. VETS-U-04]

RIN 1293-AA09

Uniformed Services Employment and Reemployment Rights Act of 1994; Correction

AGENCY: Veterans' Employment and Training Service, Labor.

ACTION: Correcting Amendment.

SUMMARY: This document contains a correction to the final regulations implementing the Uniformed Services Employment and Reemployment Act of 1994 (USERRA), which were published in the Federal Register on December 19, 2005. Congress enacted USERRA to protect the rights of persons who voluntarily or involuntarily leave employment positions to undertake military service. USERRA authorizes the Secretary of Labor to prescribe rules implementing the law as it applies to States, local governments, and private employers. 38 U.S.C. 4331(a). The Department, through the Veterans' Employment and Training Service (VETS), promulgated rules under this statutory authority to provide guidance to employers and employees concerning their rights and obligations under USERRA. The final rule contained an incorrect citation to the Agency's statutory authority to promulgate regulations under USERRA. This document corrects the final regulations by revising the statutory authority citation.

DATES: Effective on March 28, 2006.

FOR FURTHER INFORMATION CONTACT: Robert Wilson, Chief, Investigations and Compliance Division, Veterans' Employment and Training Service, U.S. Department of Labor, 200 Constitution Avenue, NW., Room S-1312, Washington, DC 20210, Wilson.Robert@dol.gov, (202) 693-4719 (this is not a toll-free number).

SUPPLEMENTARY INFORMATION:

Background

On September 20, 2004, VETS issued proposed regulations to implement the Uniformed Services Employment and Reemployment Rights Act of 1994, as amended (USERRA), 38 U.S.C. 4301-4334. VETS invited written comments on the proposed regulations from interested parties, and invited comment on specific issues. VETS considered all timely comments received in response to the proposed regulations, and published final regulations in the Federal Register on December 19, 2005.

Need for Correction

Section 4331 of USERRA authorizes the Secretary of Labor to prescribe regulations implementing the law as it applies to States, local governments, and private employers. 38 U.S.C. 4331(a). This statutory authority is noted correctly in two places in the preamble to the USERRA final rule. See 70 FR 75246 and 70 FR 75292. However, an incorrect reference to the statutory authority was inadvertently inserted in the text of the regulations. See 70 FR 75295. To correct this error, this document substitutes the correct statutory authority for that listed in the text of the final regulations.

List of Subjects in 20 CFR Part 1002

Labor, Veterans, Pensions.

Accordingly, 20 CFR part 1002 is corrected by making the following correcting amendment:

PART 1002—[AMENDED]

1. The authority citation is corrected to read as follows:

Authority: Section 4331(a) of the Uniformed Services Employment and Reemployment Rights Act of 1994 (USERRA), 38 U.S.C. 4331(a) (Pub. L. 103-353, 108 Stat. 3150).

U.S. Department of Labor.
Veterans' Employment and Training Service.
Charles S. Ciccolella,
Assistant Secretary for Veterans' Employment and Training.

[FR Doc. 06-2966 Filed 3-27-06; 8:45 am]

BILLING CODE 4510-79-P